DEPARTMENT OF ENERGY

Federal Energy Regulatory Commission

[Project No. 4684-068]

Stillwater Hydro Associates, LLCGR Catalyst One, LLC; Notice of Application for Transfer of License and Soliciting Comments and Motions To Intervene

On June 19, 2014, Stillwater Hydro Associates, LLC (transferor) and GR Catalyst One, LLC (transferee) filed an application for transfer of license of the Stillwater Hydroelectric Project located on the Hudson River in Saratoga and Rensselaer counties, New York.

The transferor and transferee seek Commission approval to transfer the license for the Stillwater Hydroelectric Project from the transferor to the transferee.

Applicant Contacts: For Transferor: Mr. Dwight A. Bowler, Vice President, Stillwater Hydro Associates, LLC, c/o Champlain Spinners Power Company, Inc., 813 Jefferson Hill Road, Nassau, New York 12123 and Mr. Joshua A. Sabo, Esq., 287 North Greenbush Road, Troy, New York 12180. For Transferee: Mr. Mark Boumansour, COO, GR Catalyst One, LLC, c/o Gravity Renewables, Inc., 1401 Walnut Street, Suite 220, Boulder, Colorado 80302 and Mr. Robert A. Panasci, Esq., Young/Sommer, LLC, Executive Woods, 5 Palisades Drive, Albany, New York 12205.

FERC Contact: Patricia W. Gillis, (202) 502-8735.

Deadline for filing comments and motions to intervene: 30 days from the issuance date of this notice, by the Commission. The Commission strongly encourages electronic filing. Please file motions to intervene and comments using the Commission's eFiling system at http://www.ferc.gov/docs-filing/efiling.asp. Commenters can submit brief comments up to 6,000 characters, without prior registration, using the eComment system at http://www.ferc.gov/docs-filing/ecomment.asp. You must include your name and contact information at the end of your comments. For assistance, please contact FERC Online Support at FERCOnlineSupport@ferc.gov, (866) 208-3676 (toll free), or (202) 502-8659 (TTY). In lieu of electronic filing, please send a paper copy to: Secretary, Federal Energy Regulatory Commission, 888 First Street NE., Washington, DC 20426. The first page of any filing should include docket number P-4684-068.

Dated: July 8, 2014.
Kimberly D. Bose,
Secretary.

[FR Doc. 2014-16438 Filed 7-14-14; 8:45 am]

BILLING CODE 6717-01-P